FEDERAL MINE SAFETY AND HEALTH REVIEW COMMISSION

Sunshine Act Notice

July 25, 2011.

TIME AND DATE: 10 a.m., Thursday, August 4, 2011.

PLACE: The Richard V. Backley Hearing Room, 9th Floor, 601 New Jersey Avenue, NW., Washington, DC.

STATUS: Open.

MATTERS TO BE CONSIDERED: The Commission will hear oral argument in the following matters: Big Ridge, Inc., Docket Nos. LAKE 2011-116-R, et al., and Peabody Midwest Mining, LLC, Docket Nos. LAKE 2011-118-R, et al. (Issues include whether the Commission should grant an application for temporary relief from orders issued by the Secretary of Labor requiring that mine operators provide certain information and records to the Secretary.)

Any person attending this oral argument who requires special accessibility features and/or auxiliary aids, such as sign language interpreters, must inform the Commission in advance of those needs. Subject to 29 CFR 2706.150(a)(3) and § 2706.160(d).

CONTACT PERSON FOR MORE INFO: Jean Ellen (202) 434-9950 / (202) 708-9300 for TDD Relay / 1-800-877-8339 for toll free.

Emogene Johnson,
Administrative Assistant.

[FR Doc. 2011-19462 Filed 7-28-11; 11:15 am]

BILLING CODE 6735-01-P